GOVERNMENT ACCOUNTABILITY OFFICE

Advisory Board to the Consumer Operated and Oriented Plan (CO-OP) Program

AGENCY: Government Accountability Office (GAO).

ACTION: Notice on letters of nomination.

SUMMARY: The Patient Protection and Affordable Care Act requires the Secretary of Health and Human Services to establish the Consumer Operated and Oriented Plan (CO-OP) Program, and provides for an Advisory Board to the program. The Patient Protection and Affordable Care Act gave the Comptroller General of the United States responsibility for appointing the Advisory Board's 15 members from among individuals with qualifications described in section 1805(c)(2) of the Social Security Act. Appointments are to be made not later than three months after the date of enactment of the Act. For these appointments, I am announcing the following: Letters of nomination and résumés will be accepted through April 30th to ensure adequate opportunity for review and consideration of nominees prior to appointment of members and can be sent to either the e-mail address or mailing address listed below.

ADDRESSES: Nominations can be submitted by either of the following:

• E-mail: COOPBoardAppointments@gao.gov.

• Mail: GAO Health Care, Attention: COOP Advisory Board Nominations, 441 G Street, NW., Washington, DC 20548.

FOR FURTHER INFORMATION CONTACT: GAO: Office of Public Affairs, (202) 512-4800.

[Sec. 1322, Pub. L. 111-148]

Gene L. Dodaro,
Acting Comptroller General of the United States.

[FR Doc. 2010-7654 Filed 4-7-10; 8:45 am]

BILLING CODE M